Proclamation 8777 of January 31, 2012

National Teen Dating Violence Awareness and Prevention Month, 2012

By the President of the United States of America

A Proclamation

In America, an alarming number of young people experience physical, sexual, or emotional abuse as part of a controlling or violent dating relationship. The consequences of dating violence—spanning impaired development to physical harm—pose a threat to the health and well-being of teens across our Nation, and it is essential we come together to break the cycle of violence that burdens too many of our sons and daughters. This month, we recommit to providing critical support and services for victims of dating violence and empowering teens with the tools to cultivate healthy, respectful relationships.

Though we have made substantial progress in the fight to reduce violence against women, dating violence remains a reality for millions of young people. In a 12 month period, one in 10 high school students nationwide reported they were physically hurt on purpose by their boyfriend or girlfriend, and still more experienced verbal or emotional abuse like shaming, bullying, or threats. Depression, substance abuse, and health complications are among the long-term impacts that may follow in the wake of an abusive relationship. Tragically, dating violence can also lead to other forms of violence, including sexual assault. These outcomes are unacceptable, and we must do more to prevent dating violence and ensure the health and safety of our Nation’s youth.

The path toward a future free of dating violence begins with awareness. As part of my Administration’s ongoing commitment to engaging individuals and communities in this important work, Vice President Joe Biden launched the 1is2many initiative last September. In concert with awareness programs occurring across Federal agencies, the initiative calls on young men and women to take action against dating violence and sexual assault and help advance public understanding of the realities of abuse. The National Dating Abuse Helpline offers information and support to individuals struggling with unhealthy relationships. For immediate and confidential advice and referrals, I encourage concerned teens and their loved ones to contact the Helpline at 1-866-331-9474, text “loveis” to 77054, or visit: www.LoveIsRespect.org. Additional resources are available at: www.CDC.gov/features/datingviolence.

My Administration continues to promote new and proven strategies to target teen dating violence. Last November, we announced the winners of the Apps Against Abuse technology challenge, concluding a national competition to develop innovative new tools that will empower young Americans and help prevent dating violence and sexual assault. As we move forward, we will continue to collaborate with both public and private partners to bring new violence prevention strategies to individuals and communities across our Nation. To learn more, visit: www.WhiteHouse.gov/1is2many.

Reducing violence against teens and young adults is an important task for all of us. This month, we renew our commitment to breaking the silence about dating abuse and fostering a culture of respect in our neighborhoods, our schools, and our homes.

NOW, THEREFORE, I, BARACK OBAMA, President of the United States of America, by virtue of the authority vested in me by the Constitution and the laws of the United States, do hereby proclaim February 2012 as National Teen Dating Violence Awareness and Prevention Month. I call upon all Americans to support efforts in their communities and schools, and in their own families, to empower young people to develop healthy relationships throughout their lives and to engage in activities that prevent and respond to teen dating violence.

IN WITNESS WHEREOF, I have hereunto set my hand this thirty-first day of January, in the year of our Lord two thousand twelve, and of the Independence of the United States of America the two hundred and thirty-sixth.

[FR Doc. 2012-2634

Filed 2-2-12; 8:45 am]

Billing code 3295-F2-P